DEPARTMENT OF COMMERCE

International Trade Administration

[A-570-001]

Potassium Permanganate From People's Republic of China: Rescission of 2017 Antidumping Duty Administrative Review

AGENCY: Enforcement and Compliance, International Trade Administration, Department of Commerce.

SUMMARY: The Department of Commerce (Commerce) is rescinding the administrative review of the antidumping duty (AD) order on potassium permanganate from the People's Republic of China (China) for the period of review (POR) January 1, 2017, through December 31, 2017.

DATES: Applicable May 2, 2018.

FOR FURTHER INFORMATION CONTACT: Trenton Duncan or Annathea Cook, AD/CVD Operations, Office V, Enforcement and Compliance, International Trade Administration, U.S. Department of Commerce, 1401 Constitution Avenue NW, Washington, DC 20230; telephone: (202) 482-3539 or (202) 482-0250, respectively.

SUPPLEMENTARY INFORMATION:

Background

On January 2, 2018, Commerce published in the Federal Register a notice of opportunity to request an administrative review of the AD order on potassium permanganate from China for the period January 1, 2017, through December 31, 2017.¹ On January 26, 2018, in accordance with section 751(a) of the Tariff Act of 1930, as amended (the Act), and 19 CFR 351.213(b), Carus Corporation (the petitioner), requested a review of the AD order with respect to the following two companies: (1) Chongqing Changyuan Group Limited; and (2) Pacific Accelerator Ltd.² On March 16, 2018, in accordance with section 751(a) of the Act and 19 CFR 351.221(c)(1)(i), Commerce initiated an administrative review of the AD order on potassium permanganate from China with respect to these companies.³ On March 28, 2018, the petitioner timely withdrew its request for an administrative review of both companies, Chongqing Changyuan Group Limited and Pacific Accelerator Ltd, named in the petitioner's Review Request.⁴ No other party requested a review.

¹ See Antidumping or Countervailing Duty Order, Finding, or Suspended Investigation; Opportunity to Request Administrative Review, 83 FR 98 (January 2, 2018).

² See the petitioner's request for administrative review, “Potassium Permanganate from the People's Republic of China: Request for Antidumping Duty Administrative Review,” dated January 26, 2018 (Review Request).

³ See Initiation of Antidumping and Countervailing Duty Administrative Reviews, 83 FR 11685 (March 16, 2018).

⁴ See the petitioner's withdrawal of administrative review request, “Potassium Permanganate from the People's Republic of China: Withdrawal of Request for Antidumping Duty Administrative Review,” dated March 28, 2018.

Rescission of Review

Pursuant to 19 CFR 351.213(d)(1), Commerce will rescind an administrative review, in whole or in part, if the party that requested the review withdraws its request within 90 days of the publication date of the notice of initiation of the requested review. The petitioner withdrew its request for review within the 90-day deadline. Because Commerce received no other requests for review of the above-referenced companies, and no other requests were made for a review of the AD order on potassium permanganate from China with respect to other companies, we are rescinding the administrative review covering the period January 1, 2017, through December 31, 2018, in full, in accordance with 19 CFR 351.213(d)(1).

Assessment

Commerce will instruct U.S. Customs and Border Protection (CBP) to assess antidumping duties on all appropriate entries of potassium permanganate from China during the POR at rates equal to the cash deposit rate for estimated antidumping duties required at the time of entry, or withdrawal from warehouse, for consumption, in accordance with 19 CFR 351.212(c)(1)(i). Commerce intends to issue appropriate assessment instructions to CBP 15 days after publication of this notice in the Federal Register.

Notification to Importers

This notice serves as the only reminder to importers of their responsibility under 19 CFR 351.402(f)(2) to file a certificate regarding the reimbursement of antidumping duties prior to liquidation of the relevant entries during this review period. Failure to comply with this requirement could result in the presumption that reimbursement of antidumping duties occurred and the subsequent assessment of doubled antidumping duties.

Notification Regarding Administrative Protective Order

This notice also serves as the only reminder to parties subject to administrative protective orders (APO) of their responsibility concerning the disposition of proprietary information disclosed under APO in accordance with 19 CFR 351.305(a)(3), which continues to govern business proprietary information in this segment of the proceeding. Timely written notification of the return or destruction of APO materials or conversion to judicial protective order is hereby requested. Failure to comply with the regulations and the terms of an APO is a sanctionable violation.

This notice is issued and published in accordance with sections 751(a)(1) and 777(i)(1) of the Act and 19 CFR 351.213(d)(4).

Dated: April 26, 2018.
James Maeder,
Associate Deputy Assistant Secretary for Antidumping and Countervailing Duty Operations, performing the duties of Deputy Assistant Secretary for Antidumping and Countervailing Duty Operations.

[FR Doc. 2018-09308 Filed 5-1-18; 8:45 am]

BILLING CODE 3510-DS-P